DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), will meet on November 3, 2004, in the Broadway/Weidler Conference Rooms at the DoubleTree at Lloyd Center Hotel, 1000 NE Multnomah, Portland, Oregon (503-249-3110). The meeting will begin at 9 a.m. and adjourn at approximately 4 p.m. The purpose of the meeting, in general, is to continue committee discussions related to Northwest Forest Plan implementation. Meeting agenda items include, but are not limited to the 10-year monitoring report process, Natural Resources Conservation Service Conservation Security Program, Pacific Northwest Aquatic Monitoring Partnerships, update on Bureau of Land Management Resource Management Plan Revisions, and several short written or oral reports related to ongoing implementation improvement activities. The meeting is open to the public and fully accessible for people with disabilities. A 15-minute time slot is reserved for public comments at 9:15 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW First Avenue, P.O. Box 3623, Portland, OR 97208 (telephone: 503-808-2165).

Dated: October 7, 2004.
Anne Badgley,
Designated Federal Official.

[FR Doc. 04-23144 Filed 10-14-04; 8:45 am]

BILLING CODE 3410-11-P